DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including the use of automated collection techniques or other forms of information technology.

DATES: Comments regarding this proposed information collection must be received on or before December 12, 2011. If you anticipate difficulty in submitting comments within that period, contact the person listed below as soon as possible.

ADDRESSES: Written comments may be sent to Kathleen M. Binder, HG-6, Director, Office of Conflict Prevention and Resolution, U.S. Department of Energy, 1000 Independence Avenue, SW., Washington, DC 20585; or by fax at 202-287-1490 or by e-mail at kathleen.binder@hq.doe.gov.

FOR FURTHER INFORMATION CONTACT: Requests for additional information or copies of the information collection instrument and instructions should be directed to Kathleen M. Binder at the address listed in ADDRESSES.

SUPPLEMENTARY INFORMATION: This information collection request contains: (1) OMB No.: 1910-5118; (2) Information Collection Request Title: “Technology Partnerships Ombudsmen Reporting Requirements”; (3) Type of Review: Renewal; (4) Purpose: The information collected will be used to determine whether the Technology Partnerships Ombudsmen are properly helping to resolve complaints from outside organizations regarding laboratory policies and actions with respect to technology partnerships; (5) Annual Estimated Number of Respondents: 22; (6) Annual Estimated Number of Total Responses: 88; (7) Annual Estimated Number of Burden Hours: 50; (8) Annual Estimated Reporting and Recordkeeping Cost Burden: 0.

Statutory Authority: Section 11 of the Technology Transfer Commercialization Act of 2000, Pub. L. 106-404, codified at 42 U.S.C. 7261c(c)(3)(C).

Issued in Washington, DC, on October 6, 2011.
Kathleen M. Binder,
Office of Conflict Prevention and Resolution, Office of Hearings and Appeals.

[FR Doc. 2011-26353 Filed 10-11-11; 8:45 am]

BILLING CODE 6450-01-P